DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before October 27, 2011.

ADDRESSES: You may submit your comments, identified by “docket number” on the subject line, by any of the following methods:

1. Electronic Mail: zzMSHA-comments@dol.gov. Include the docket number of the petition in the subject line of the message.

2. Facsimile: 202-693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist's desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Facsimile). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that:

(1) An alternative method of achieving the result of such standard exists which will at all times guarantee no less than the same measure of protection afforded the miners of such mine by such standard; or

(2) That the application of such standard to such mine will result in a diminution of safety to the miners in such mine.

In addition, the regulations at 30 CFR 44.10 and 44.11 establish the requirements and procedures for filing petitions for modification.

II. Petitions for Modification

Docket Number: M-2011-007-M.

Petitioner: Riverside Cement Co., 19409 National Trail Highway, Oro Grande, California 92368.

Mine: Oro Grande Quarry, MSHA Mine I.D. No. 04-00011, located in San Bernardino County, California.

Regulation Affected: 30 CFR 56.6131 (Location of explosive material storage facilities).

Modification Request: The petitioner requests a modification of the existing standard to enable uncharged cardox safety heaters to be stored in the Type 2 magazine located on the plant's preheater tower. The petitioner operates a cement plant that manufactures cement by introducing crushed limestone to a calcining process that consists of a kiln and a preheater system. The petitioner states that:

(1) The heater recaptures kiln gases to preheat the crushed limestone, which is fed through a series of cone shaped vessels before the material enters the kiln where it is fired to approximately 2,200 degrees Fahrenheit.

(2) This material can clog within the system, as happens with silos and other temporary containers of large volumes of crushed material.

(3) A principal technology for unclogging vessels involves the use of a product referred to as a cardox safety heater.

(4) Although the Bureau of Alcohol, Tobacco and Firearms (ATF) classifies cardox safety heaters as “low explosives” that are only required to be stored in Type 4 magazines, MSHA does not have a similar exception for this new technology. MSHA requires that the cardox safety heaters be maintained with the high explosives in the Type 1 magazine located in the quarry.

(5) Consistent with the Department of Transportation classification of 1.4S, the cardox safety heater is considered a “non-mass-detonating product” that can be shipped in a normal shipping package with no special precautions. Cardox safety heaters are hand delivered to the Oro Grande cement plant by a United Parcel Service (UPS) person.

(6) Prior to August 2009, upon receiving a package containing cardox safety heaters, the package would be immediately taken to the type 2 magazine located on the sixth floor of the preheater tower where it is used to deal with plugs within the preheater system.

(7) Since August 2009, in consultation with MSHA, the following procedures are used:

(a) When the storeroom personnel receive the cardox safety heaters from the UPS delivery person, they notify production personnel.

(b) The production personnel transport the heaters to the quarry magazine.

(c) When a blockage of material occurs in the preheater tower, the production supervisor drives to the quarry magazine, retrieves the cardox safety heater, and transports the heater to the Type 2 magazine located on the sixth floor of the preheater tower.

(d) The Type 2 magazine can only be used as a day box, so any unused cardox safety heaters must be returned to the quarry magazine at the end of the day.

(e) Depending on plug conditions, this transportation process can be repeated multiple times in the same day, or during any given week.

(f) Along with the additional transport exposure, the reopening and closing of the cardox safety heater ports increases the opportunity for preheater tower personnel to be exposed to open ports and hot material.

(8) Extra handling and transportation also increases the opportunity for damage to the generators, which if not detected could result in misfires.

(9) The current standard requires unnecessary risk of increased exposure to “explosives,” to hot material, and to the potential for misfires that will result in a substantial diminution of safety.

The petitioner proposes the following method to minimize the hazard to miners who transport cardox safety heaters from the magazine building to the preheater tower, personnel along the route, and the miners working on the preheater tower:

(1) Safely store cardox safety heaters in a Type 2 magazine. Type 2 magazines are designed to store high grade explosives that are more dangerous than a cardox safety heater, classified by ATF as a low explosive.

(2) Provide greater protection than the ATF requires because the Type 2 metal indoor magazine includes an inner lining of non-sparking material, a door equipped with two tamper proof locks that are independently keyed, and hinges and legs that are properly grounded.

(3) Store the Type 2 magazine inside a locked, well-ventilated, and grounded metal building on the sixth floor of the preheater, which is 266 feet above ground.

(4) Although a miner must charge the cardox safety heater before it poses a risk of danger to other miners, once it is charged, this risk is less than most explosives. Cardox safety heaters are low grade explosives that use CO ², a gas that is commonly found in fire extinguishers.

The petitioner states that the proposed cardox safety heater storage procedures set out in this petition constitute a fully appropriate, effective, and safe method for achieving the level of safety provided by the existing standard. Persons may review a complete description of petitioner's alternative method and procedures at the MSHA address listed in this petition. The petitioner asserts that the alternative method would enhance the safety of miners on mine property by ensuring that forces generated by a storage facility explosion would not create a hazard to miners.

Docket Number: M-2011-028-C.

Petitioner: West Virginia Mine Power, Inc., P.O. Box 574, Rupert, West Virginia 25984-0574.

Mine: Mountaineer Pocahontas Mine No. 1, MSHA I.D. No. 46-09172, located in Greenbrier County, West Virginia.

Regulation Affected: 30 CFR 75.1101-1(b) (Deluge-type water spray system).

Modification Request: The petitioner requests a modification of the existing standard to eliminate the use of blow-off dust covers for the spray nozzles of a deluge-type water spray system. As an alternative to using the blow-off dust covers, the petitioner proposes to:

(1) Once each week, have a person trained in the testing procedures specific to the deluge-type water spray fire suppression systems used at each belt drive:

(a) Conduct a visual examination of each deluge-type water spray fire suppression system;

(b) Conduct a functional test of the deluge-type water spray fire suppression system by actuating the system and watching its performance; and

(c) Record the result of the examination and functional test in a book maintained on the surface. The record will be made available to the authorized representative of the Secretary and retained at the mine for one year.

(2) Any malfunction or clogged nozzle detected as a result of the weekly examination or functional test will be corrected immediately.

(3) The procedure used to perform the functional test will be posted at or near each belt drive that utilizes a deluge-type water spray fire suppression system.

The petitioner states that mining is in the Pocahontas No. 6 coal seam, where the seam height averages 42” to 48”, and the conveyor belt is installed adjacent to the track and contained in the same entry with an overall mining height approximately 54”. The petitioner asserts that the proposed alternative method will provide a measure of protection equal to or greater than that of the existing standard.

Docket Numbers: M-2011-029-C.

Petitioner: West Virginia Mine Power, Inc., P.O. Box 574, Rupert, West Virginia 25984-0574.

Mine: Mountaineer Pocahontas Mine No. 3, MSHA I.D. No. 46-09210, located in Greenbrier County, West Virginia.

Regulation Affected: 30 CFR 75.1101-1(b) (Deluge-type water spray system).

Modification Request: The petitioner requests a modification of the existing standard to eliminate the use of blow-off dust covers for the spray nozzles of a deluge-type water spray system. As an alternative to using the blow-off dust covers, the petitioner proposes to:

(1) Once each week, have a person trained in the testing procedures specific to the deluge-type water spray fire suppression systems used at each belt drive:

(a) Conduct a visual examination of each deluge-type water spray fire suppression systems;

(b) Conduct a functional test of the deluge-type water spray fire suppression systems by actuating the system and watching its performance; and

(c) Record the result of the examination and functional test in a book maintained on the surface. The record will be made available to the authorized representative of the Secretary and retained at the mine for one year.

(2) Any malfunction or clogged nozzle detected as a result of the weekly examination or functional test will be corrected immediately.

(3) The procedure used to perform the functional test will be posted at or near each belt drive that utilizes a deluge-type water spray fire suppression system.

The petitioner states that mining is in the Beckley coal seam, where the seam height averages 44” to 50”, and the conveyor belt is installed adjacent to the roadway with ventilation directed from the section to the outside. The petitioner asserts that the proposed alternative method will provide a measure of protection equal to or greater than that of the existing standard.

Docket Number: M-2011-030-C.

Petitioner: Utah American Energy, Inc., P.O. Box 910, East Carbon, Utah 84520.

Mine: Lila Canyon Mine, MSHA I.D. No. 42-02241, located in Emery County, Utah.

Regulation Affected: 30 CFR 75.350(a) (Belt air course ventilation).

Modification Request: The petitioner requests a modification of the existing standard to permit the belt air course to be used as a return air course and for the belt entry to be used to ventilate the longwall working section. The petitioner states that:

(1) Application of the existing standard results in a diminution of safety to the miners. The two-entry longwall development mining system reduces the likelihood of coal bumps, roof falls, and other hazards related to mining seams under deep cover up to 3,000 feet, rugged topography, or highly stressed ground conditions. Therefore, developing with additional entries to comply with isolation of the belt entry from a separate return entry and diverting belt air directly into a return air course diminishes the safety of the miners as compared to utilizing the belt entry as a return air course during development mining. The use of the belt entry to aid in the ventilation of the working section will help in diluting and rendering harmless methane gas that is released in the mine atmosphere during the mining cycle.

(2) An atmospheric monitoring system (AMS) incorporating diesel-discriminating (carbon monoxide and nitric oxide) sensors for early fire warning detection will be installed in the primary (intake) escapeway and belt entry. These AMS systems will be installed, operated, examined, and maintained as required by the application of 30 CFR 75.351.

(3) Actions taken in response to the AMS malfunction and alert or alarm signal will be in compliance with 30 CFR 75.352.

(4) Wireless tracking and communication systems will be used in the two-entry system as outlined in the Emergency Response Plan.

(5) An (AMS) for early warning fire detection will be used throughout the two-entry system. All sensors that are part of the AMS will be diesel-discriminating (carbon monoxide and nitric oxide) sensors.

(6) The belt air course will be separated with permanent ventilation controls from return air courses and from other intake air courses except as provided with this petition. The belt air course is defined as the entry in which a belt is located and any adjacent entry or entries not separated from the belt entry by permanent ventilation controls, including any entries in series with the belt entry, terminating at a return regulator, a section loading point, or the surface.

(7) The maximum air velocity in the belt entry will be no greater than 500 feet per minute, unless otherwise approved in the mine ventilation plan.

(8) Air velocities will be compatible with all fire detection systems and fire suppression systems used in the belt entry.

(9) The belt entry, the primary escapeway, and other intake entry or entries used will be equipped with an AMS that is installed, operated, examined, and maintained as specified within this petition.

(10) All miners will be trained annually in the basic operating principles of the AMS, including the actions required in the event of activation of any AMS alert or alarm signal. This training will be conducted prior to the development of any portion of the two-entry mining system, as part of a miner's Part 48 new miner training, experienced miner training, or annual refresher training.

(11) The AMS will activate an alarm signal if the total concentration of uncorrected carbon monoxide measured by any sensor exceeds or is equal to 50 parts per million (ppm). This concentration will represent all the carbon monoxide present in the sensor's atmosphere, including carbon monoxide from diesel engines.

(12) Mantrip cars, personnel carriers, or other transportation equipment will be maintained on or near the working section and on or near areas where mechanized mining equipment is being installed or removed, be of sufficient capacity to transport all persons who may be in the area, and will be located within 300 feet of the section loading point or proposed section loading point.

(13) Fire doors designed to quickly isolate the working section will be constructed in the two entries for use in emergency situations. The fire doors will be maintained operable throughout the duration of the two-entry panel. A plan for the emergency closing of these fire doors, notification of personnel, and deenergization of electric power inby the doors will be included in the mine emergency evacuation and firefighting program of instruction plan.

(14) Two separate lines or systems for voice communication will be maintained in the two-entry mining section. Mine pager phones will be installed every 1,000 feet within one crosscut of the location of the diesel-discriminating sensor in the belt and intake entries. The two systems will not be routed through the same entry.

(15) An approved wireless and tracking communication system will be used as a communication link between the AMS operator, the designated person on each working section, all diesel equipment operators in each active two-entry panel gate roads, and any person investigating an alert condition. Methods of personnel tracking and communications will be subject to approval of the District Manager.

(16) In addition to self-contained self-rescuers (SCSRs) specified in the Lila Canyon Emergency Response Plan, at least one SCSR will be available for each person on the working section at all times and will be carried into the section and carried on the section, or stored on the section while advancing the two-entry development.

(17) During longwall retreat mining, in addition to SCSRs specified in the Lila Canyon Emergency Response Plan, at least two SCSRs will be available for each regularly assigned person on the working section. One will be stored near the face in the headgate entries at a readily accessible location and one will be stored near the tailgate entries.

(18) In addition to the requirements of 30 CFR 75.1100-2(b), fire hose outlets with valves every 300 feet will be installed along the intake entry. At least 500 feet of fire hose with fittings and nozzles suitable for connection with the outlets will be stored at each strategic location along the intake entry. The locations will be specified in the mine emergency evacuation and firefighting program of instruction plan.

(19) Compressor stations and unattended portable compressors will not be located in the two-entry panel.

(20) The details for the fire detection system and methane monitoring system, including the type of monitor and specific sensor location on the mine map, will be included in the ventilation plan required by 30 CFR 75.370. The District Manager may require additional diesel-discriminating sensors, carbon monoxide sensors, or methane sensors to be installed as part of the ventilation plan to ensure the safety of the miners in any part of the two-entry system.

(21) Lifelines that meet the requirements of 30 CFR 75.380 will be provided in the primary and secondary escapeways during two-entry development, longwall setup, recovery, and longwall retreat mining.

(22) The AMS will activate an alarm signal if the total concentration of uncorrected carbon monoxide measured by any sensor exceeds or is equal to 50 ppm. This concentration will represent all the carbon monoxide present in the sensor's atmosphere, including carbon monoxide from diesel engines.

The petitioner states that prior to implementation of this petition, all affected personnel will complete training on the following:

(1) The fire suppression systems used on diesel equipment used in the two-entry system;

(2) Precautions for working around the hydraulic pumping station when the hydraulic pumping station for the longwall supports is located in the two-entry system;

(3) All conditions specified by this petition;

(4) Procedures for emergency closing of fire doors and permanent ventilation control devices, notification of personnel, and deenergization of electric power within the longwall district; and

(5) Conditions specified in the approved ventilation plan.

The petitioner further states that the terms and conditions of the petition will not apply during the time period from completion of the development mining of the two-entry longwall panel until the beginning of the longwall equipment set-up activities, provided the conveyor belt in the two-entry panel is not energized. During this time period, all other mandatory standards will apply.

Persons may review a complete description of petitioner's alternative method and procedures at the MSHA address listed in this petition. The petitioner asserts that the proposed alternative method will always guarantee the miners affected no less protection than is provided by the standard and application of the standard will result in a diminution of safety to the miners.

Dated: September 21, 2011.
Patricia W. Silvey,
Certifying Officer.

[FR Doc. 2011-24727 Filed 9-26-11; 8:45 am]

BILLING CODE 4510-43-P